DEPARTMENT OF COMMERCE

National Oceanic and Atmospheric Administration

RIN 0648-XD187

Endangered and Threatened Species; Take of Anadromous Fish

AGENCY: National Marine Fisheries Service (NMFS), National Oceanic and Atmospheric Administration (NOAA), Commerce.

ACTION: Applications for six new scientific research permits, one permit modification, and three research permit renewals.

SUMMARY: Notice is hereby given that NMFS has received 10 scientific research permit application requests relating to Pacific salmon, sturgeon, rockfish, and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on April 21, 2014.

ADDRESSES: Written comments on the applications should be sent to the Protected Resources Division, NMFS, 1201 NE Lloyd Blvd., Suite 1100, Portland, OR 97232-1274. Comments may also be sent via fax to 503-230-5441 or by email to nmfs.nwr.apps@noaa.gov.

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): threatened California Coastal (CC); threatened Central Valley spring-run (CVS); threatened Lower Columbia River (LCR); threatened Puget Sound (PS); endangered Sacramento River winter-run (SRW); threatened Snake River (SR) fall-run; threatened SR spring/summer-run (spr/sum); endangered Upper Columbia River (UCR) spring-run; threatened Upper Willamette River (UWR).

Steelhead (O. mykiss): threatened UCR; threatened SR; threatened middle Columbia River (MCR); threatened California Central Valley (CCV); threatened LCR; threatened Northern California (NC); threatened PS; threatened South-Central California Coast (SCC); threatened UWR.

Sockeye salmon (O. nerka): endangered SR.

Chum salmon (O. keta): threatened Columbia River (CR).

Coho salmon (O. kisutch): threatened LCR; threatened Oregon Coast (OC); threatened Southern Oregon/Northern California Coast (SONCC).

Eulachon (Thaleichthys pacificus): threatened southern DPS (S. eulachon).

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1127-4R

The Shoshone-Bannock Tribes are seeking to renew their permit to annually take listed SR Chinook salmon and steelhead while conducting research designed to (1) monitor adult and juvenile fish in key upper Snake River subbasin watersheds, (2) assess the utility of hatchery Chinook salmon in increasing natural populations in the Salmon and Clearwater Rivers, and (3) evaluate the genetic and ecological impacts of hatchery Chinook salmon on natural populations. The fish would primarily benefit from the research in two ways. First, the research would broadly be used to help guide restoration and recovery efforts throughout the Snake River basin. Second, and more specifically, the research would be used to determine how hatchery supplementation can be used as a tool for salmon recovery. The researchers would use screw traps, weirs, and electrofishing to capture the listed fish. Once captured, the fish would undergo various sampling, tagging, and handling regimes; they would then be allowed to recover and released. Some tissue samples would be taken from adult fish carcasses, and the researchers would conduct some snorkeling surveys and redd counts. In all cases, trained crews would conduct the operations, no adult salmonids would be electrofished, and all activities would take place in the Salmon River subbasin. The researchers are not proposing to kill any of the fish they capture, but some may die as an unintended result of the research.

Permit 1410-8R

The Northwest Fisheries Science Center (NWFSC) is requesting to renew permit 1410 for a period of five years. The permit would authorize the NWFSC to annually take adult and juvenile fish from all of the listed salmon, steelhead, and eulachon in this notice while conducting a study of the Columbia River plume and the surrounding ocean environment. The purpose of the research is to: (a) Determine the abundance, distribution, growth and condition of juvenile Columbia River salmonids in the plume and characterize the area's physical and biological features as they relate to salmonid survival; (b) determine the impact that predators and food supply have on survival among juvenile Columbia River Chinook and coho salmon as they migrate through the Columbia River estuary and plume; and (c) synthesize the early ocean ecology of juvenile Columbia River salmonids, test mechanisms that control salmonid growth and survival, and produce ecological indices that forecast salmonid survival. The research would benefit listed fish by providing data that would help managers understand the linkages between salmonid abundance, distribution, growth, genetics, and health, and the effects of disease, parasites, diet, and predation in the estuarine and ocean environment. Ultimately, the NWFSC uses simulation models, statistical analyses of climate, ocean and biological time series data and indices to produce improved river and salmon management.

Listed fish would be captured in surface trawling and purse seining operations; most of them would then be handled and. Some juvenile fish would be intentionally killed for endocrine assessment, stock identification, pathogen prevalence and intensity, otolith and stomach content analysis, and histopathological attributes. The researchers are not proposing to kill any adult fish, but some may die as an unintentional result of the research activities.

Permit 14457-5R

The Columbia River Estuary Study Task Force (CREST) is requesting to renew permit 14457 for a period of one year. CREST is requesting authorization to annually take juvenile OC coho salmon while conducting research designed to evaluate habitat restoration efforts in Ecola Creek, Oregon. Specific objectives are to (1) determine species composition and relative abundance; (2) determine prey use by juvenile salmon; and (3) determine prey availability. The researchers would capture juvenile fish using trap nets. Juvenile coho would be anesthetized, identified, measured, weighed, checked for tags and marks, and released. Some of the captured salmonids would also be sampled for stomach contents. The researchers are not proposing to kill any of the fish they capture, but a small number may die as an unintended result of the activities.

Permit 15207-3M

The Amnis Opes Institute (AOI) has requested to modify permit 15207 to include additional survey sites and to extend the duration of the permit by two years. The permit would authorized AOI to annually take juvenile and adult UCR Chinook salmon, SR fall-run Chinook salmon, SR spr/sum Chinook salmon, LCR Chinook salmon, UWR Chinook salmon, PS Chinook salmon, CR chum salmon, HCS chum salmon, LCR coho salmon, OC coho salmon, SONCC coho salmon, SR sockeye salmon, UCR steelhead, SR steelhead, MCR steelhead, LCR steelhead, UWR steelhead, and PS steelhead while conducting research designed to help managers assess the condition of rivers and streams in Idaho, Oregon, and Washington. The AOI researchers may capture fish (using raft-mounted electrofishing equipment), sample them for biological information, and release them. Stunned fish would be recovered in a soft mesh dipnet and placed in a livewell. The research locations would be randomly determined and the researchers would alternate sides of the river every other transect, stopping every 5 channel widths to process the fish. After being captured, each fish would be removed from the livewell and the researchers would record species and length and note the presence of any anomalies. The fish would then be returned to the water alive and listed species would be processed first. If adult fish are seen, the electrofishing equipment would immediately be turned off, the fish would be allowed to swim away, and the researches would move to another location before resuming the research. The researchers are not proposing to kill any of the fish they capture, but a small number may die as an unintended result of the activities.

Permit 18562

The AOI has requested a permit to collect environmental samples in rivers and streams in the state of Washington while conducting Washington's Status and Trends Monitoring for Watershed Health and Salmon Recovery—a statewide habitat and biological monitoring program. The permit would authorize AOI to take juvenile and adult UCR Chinook salmon, SR fall-run Chinook salmon, SR spr/sum Chinook salmon, LCR Chinook salmon, PS Chinook salmon, CR chum salmon, HCS chum salmon, LCR coho salmon, UCR steelhead, SR steelhead, MCR steelhead, LCR steelhead, and PS steelhead. The goal of status and trends monitoring is to provide quantitative, statistically valid estimates of habitat and water quality that are important for policy and management decisions. The AOI would monitor seven status and trends regions statewide on a four-year cycle. The information gathered by this research would benefit listed salmonids by helping resource managers evaluate the effectiveness of habitat restoration efforts and monitor aquatic species status and trends. The AOI would capture fish using boat electrofishing equipment; the listed fish would be enumerated, measured, and released immediately. At no time would adults be electrofished. If any adults are seen during the electrofishing operation, the equipment would immediately be turned off and the fish would be allowed to escape. If an adult is seen, the researchers would move the operation. And in no case would the electrofishing take place where fish are actively spawning. The researchers are not proposing to kill any of the fish they capture, but a small number may die as an unintended result of the activities.

Permit 18620

The Confederated Tribes of the Warm Springs Reservation of Oregon (CTWSRO) is seeking a five-year permit to study Pacific lamprey population status and migration patterns in Fifteen Mile Creek and Hood River and their tributaries in Oregon. The researchers would capture lamprey by hand—and dipnetting, fyke netting, hoop netting, passive trapping, and electrofishing at very low settings. Adult lamprey would be measured, tagged with PIT tags or, in some cases, radio tags, allowed to recover, and released. Any salmonids that are netted would be immediately released or, if necessary, they would be transferred to temporary holding in a water-filled bucket and observed until they recover and released at that point. If any salmonids are affected by the electrofishing, the equipment would be turned off and the fish would be allowed to recover and swim away without being captured. The research would benefit salmon by greatly increasing knowledge regarding an important indicator of watershed health—Pacific lamprey. That knowledge, in turn, would be used to help managers monitor watershed health and plan habitat restoration projects in the areas where the research would take place. The researchers are not proposing to kill any of the fish they capture, but a small number may die as an unintended consequence of the work.

Permit 18568

The Confederated Tribes of Siletz Indians (CTSI) are seeking a one-year permit that would allow them to take adult and juvenile threatened OC coho while conducting research designed to examine the genetics of Chinook salmon and steelhead in the Siletz River, Oregon. The researchers would capture the fish using beach seines and electrofishing equipment. All listed fish would immediately be released or, if necessary, allowed to recover in aerated buckets from the effects of being captured and then released. The research would benefit listed coho by generating genetics information that would be used to help inform a Siletz River watershed assessment, a limiting factors analysis for salmonids in the River, and future habitat restoration projects. The researchers are not proposing to kill any of the fish they capture, but a small number may die as an unintended result of the research activities.

Permit 18569

The CTSI are seeking a one-year permit that would allow them to take juvenile threatened OC coho and adult eulachon while conducting research designed to examine the effectiveness of estuarine restoration actions in the Tillamook and Siuslaw estuaries in Oregon. The researchers would use seines and hoop traps to capture the target fish and underwater cameras to observe them. The underwater videography would be used specifically to reduce the amount of fish handling. If fewer than 25 fish are captured in a net or trap, then they would typically be counted while still in the net's bag and released without being removed from the water. If more than 25 fish are captured, the fish would be placed in five-gallon containers with mesh sides that allow water from the channel to pass through them. Fewer than 40 fish would be kept in each container. Multiple (or larger) containers would be used if more fish are present. Some fish (25 salmonids per month) would be anesthetized and measured and they would then be allowed to recover and released. The researchers are not proposing to kill any of the fish they capture, but a small may die as an unintended result of the activities.

Permit 18579

The Ochoco National Forest (NF) is seeking a five-year permit that would allow them to take juvenile MCR steelhead while conducting several monitoring activities in the Deschutes and John Day River watersheds in Oregon. The researchers would use backpack electrofishing units to capture the fish in several small tributaries to the two rivers. The fish would then be identified, measured, and immediately released; no anesthesia would be used. The research would benefit listed species by generating information that the Ochoco NF would use to locate and design habitat restoration projects and manage grazing allotments in ways that minimize effects on salmonids. The researchers are not proposing to kill any of the fish they capture, but a few individuals may die as an unintended result of the activities.

Permit 18696

The Idaho Power company is seeking a five-year permit to annually capture juvenile white sturgeon in Lower Granite Reservoir. The researchers would use small-mesh gill net sets to capture the fish. The nets would be fished at times (October and November) and in areas (the bottom of the reservoir) that have purposefully been chosen to have the least possible impact on listed fish. When the nets are pulled to the surface, listed species would immediately be released (including by cutting the net, if necessary) and allowed to return to the reservoir. The research targets a species that is not listed, but the research should benefit listed salmonids by generating information about the habitat conditions in Lower Granite Reservoir and by helping managers develop conservation plans for the species that inhabit it. The researchers are not proposing to kill any of the fish they capture, but a small number of individuals may be killed as an inadvertent result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: March 14, 2014.
Angela Somma,
Chief, Endangered Species Division, Office of Protected Resources, National Marine Fisheries Service.

[FR Doc. 2014-06154 Filed 3-20-14; 8:45 am]

BILLING CODE 3510-22-P